ENVIRONMENTAL PROTECTION AGENCY

[ER-FRL-9052-5]

Environmental Impact Statements; Notice of Availability

Responsible Agency: Office of Federal Activities, General Information 202-564-5632 or https://www.epa.gov/nepa.

Weekly receipt of Environmental Impact Statements (EIS).

Filed August 17, 2020, 10 a.m. EST Through August 24, 2020, 10 a.m. EST.

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20200172, Final, UDOT, UT, Parley's Interchange; I-80/I-215 Eastside, Contact: Naomi Kisen 801-965-4000.

Pursuant to 23 U.S.C. 139(n)(2), UDOT has issued a single FEIS and ROD. Therefore, the 30-day wait/review period under NEPA does not apply to this action.

EIS No. 20200173, Final Supplement, GSA, DC, St. Elizabeth's Master Plan Amendment 2, Review Period Ends: 09/28/2020, Contact: Paul Gyamfi 202-440-3405.

EIS No. 20200174, Draft, USDA, MT, Mid-Swan Landscape Restoration and Wildland Urban Interface Project, Comment Period Ends: 10/13/2020, Contact: Joseph Krueger 406-758-5243.

EIS No. 20200175, Second Draft Supplement, USACE, MS, Draft Supplement II (SEIS II) to the Final Environmental Impact Statement, Mississippi River and Tributaries (MR&T) Project, Mississippi River Mainline Levees and Channel Improvement of 1976 (1976 EIS), as updated and supplemented by Supplement No. 1, Mississippi River and Tributaries Project, Mississippi River Mainline Levee Enlargement and Seepage Control of 1998 (1998 SEIS), Comment Period Ends: 10/13/2020, Contact: Mike Thron 901-544-0708.

EIS No. 20200176, Final, USACE, FL, Lake Okeechobee Watershed Restoration Project, Review Period Ends: 09/28/2020, Contact: Dr. Gretchen Ehlinger 904-232-1682.

Amended Notice

EIS No. 20200067, Draft, NRC, NM, Holtec International's License Application for a Consolidated Interim Storage Facility for Spent Nuclear Fuel and High Level Waste, Comment Period Ends: 09/22/2020, Contact: Jill Caverly 301-415-7674. Revision to FR Notice Published 3/20/2020; Extending the Comment Period from 5/22/2020 to 9/22/2020.

EIS No. 20200169, Final, USAF, TX, F-35A Operational Beddown—Air Force Reserve Command, Review Period Ends: 09/21/2020, Contact: Mr. Hamid Kamalpour 210-925-2738. Revision to FR Notice Published 08/21/2020; Correction to Lead Agency Contact Phone Number from 210-925-273 to 210-925-2738.

Dated: August 25, 2020.
Candi Schaedle,
Acting Director, NEPA Compliance Division, Office of Federal Activities.

[FR Doc. 2020-18984 Filed 8-27-20; 8:45 am]

BILLING CODE 6560-50-P